DEPARTMENT OF TRANSPORTATION

Federal Aviation Administration

Twenty Fourth Meeting: RTCA Special Committee 203, Unmanned Aircraft Systems

AGENCY: Federal Aviation Administration (FAA), U.S. Department of Transportation (DOT).

ACTION: Meeting Notice of RTCA Special Committee 203, Unmanned Aircraft Systems.

SUMMARY: The FAA is issuing this notice to advise the public of the twenty third meeting of RTCA Special Committee 203, Unmanned Aircraft Systems.

DATES: The meeting will be held May 1-3, 2013, from 9:00 a.m. to 5:00 p.m.

ADDRESSES: The meeting will be held at RTCA, Inc., 1150 18th St. NW., Suite 910, Washington, DC 20036.

FOR FURTHER INFORMATION CONTACT: The RTCA Secretariat, 1150 18th Street, NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 203. The agenda will include the following:

May 1-3, 2013

Opening Plenary Session

• Introductory Remarks and Introductions

• Review Meeting Agenda

• Review/Approval of Twenty Third Plenary Meeting Summary

• Leadership Update

• Workgroup Progress

• Review/Approval—New Document—Operational Functional Requirements and Safety Objectives for Unmanned Aircraft Systems and Minimum Aviation System Performance Standards

• Other Business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 28, 2013.
Paige Williams,
Management Analyst, NextGen, Business Operations Group, Federal Aviation Administration.

[FR Doc. 2013-07719 Filed 4-2-13; 8:45 am]

BILLING CODE 4910-13-P